DEPARTMENT OF HEALTH AND HUMAN SERVICES

Health Resources and Services Administration

National Advisory Committee on Rural Health and Human Services; Notice of Meeting

AGENCY: Health Resources and Services Administration (HRSA), HHS.

ACTION: Notice; correction.

SUMMARY: HRSA published a notice in the Federal Register, FR 2014-18735 (August 8, 2014), announcing the meeting of the National Advisory Committee on Rural Health and Human Services in Sioux Falls, South Dakota (Federal Register, Vol. 79, No. 153, 46445). The site for the opening of the meeting has been changed.

FOR FURTHER INFORMATION CONTACT: Steve Hirsch, MSLS, Executive Secretary, National Advisory Committee on Rural Health and Human Services, HRSA, Parklawn Building, 17W61, 5600 Fishers Lane, Rockville, MD 20857, Telephone (301) 443-0835, Fax (301) 443-2803, or email at shirsch@hrsa.gov.

Correction

In the Federal Register of August 8, 2014, in FR Doc. 2014-18735, on page 44645, in column 3, correct the “PLACE” section to read:

The meeting on September 24, 2014, will begin at the address below at 8:45 a.m.: Holiday Inn Sioux Falls-City Centre, 100 West 8th Street, Sioux Falls, SD 57104, (605) 339-2000.

The meetings on both September 25 and 26 will take place as previously announced at Avera eHelm, 4500 N Lewis Ave, Sioux Falls, SD 57104, (605) 322-4669.

Dated: September 4, 2014.
Jackie Painter,
Acting Director, Division of Policy and Information Coordination.

[FR Doc. 2014-21553 Filed 9-9-14; 8:45 am]

BILLING CODE 4165-15-P